ENVIRONMENTAL PROTECTION AGENCY

[ER-FRL-6615-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-BOP-F80001-ID Rating EC2, Terre Haute United States Penitentiary (USP), Proposal to Construct and Operate 960 Beds Facilities along with a Special Confinement Unit of 100-120 Beds to Alleviating Overcrowding, Vigo County, Terra Haute, ID.

Summary

EPA requested that BOP fully address: (1) the project's purpose and need, (2) the cumulative impacts on the combined sewer system, (3) provide an analysis of all future waste streams and the steps necessary to minimize the environmental impacts of those waste streams, and (4) clarify wetland permit requirements with the ACOE.

ERP No. D-GSA-L81013-OR Rating EC2, Eugene/Springfield New Federal Courthouse, Construction, Lane County, OR.

Summary

EPA expressed concerns regarding the environmental costs associated with Alternative 3. Alternative 2 seems to have the fewest constraints and the proposed action could potentially enhance the appeal and utility of the area considerably over its current condition. EPA requested that more information about the status of historic facilities and site contamination be provided.

ERP No. D-JUS-G81009-TX Rating LO, Immigration and Naturalization Service (INS) Detention Facility Construction in the Houston Area, TX.

Summary

EPA expressed no objections to the selection of the preferred alternative.

ERP No. D-TVA-E06020-MS Rating EC2, Kemper County Combustion Turbine Plant, Construction and Operation, Addition of Electric General Peaking Capacity at Greenfield Sites, NPDES Permit, Kemper County, MS.

Summary

EPA expressed concerns regarding potential air quality, wetland, environmental justice and induced development impacts.

ERP No. DR-COE-C36103-NY Rating EC2, Sauquoit Creek Flood Control Project, Significant Revisions Concerning Old Project Descriptions, Alternatives Considered and New Project and Original Project Comparisons of Environmental Impacts, Sauquoit Creek Basin, Whitesboro, Oneida County, NY.

Summary

EPA expressed concerns regarding the adequacy of the mitigation proposed for the loss of wetlands and other aquatic habitat values.

Final EISs

ERP No. F-COE-C39014-NJ, Raritan Bay and Sandy Hook Bay, Hurricane and Storm Damage Reduction Project, Flood Control and Storm Damage Protection, Port Monmouth, Middletown Township, Monmouth County, NJ.

Summary

The Final EIS did not adequately address EPA's concerns regarding the wetland mitigation proposal. EPA recommended that the ROD include a commitment to prepare a detailed mitigation plan that addresses EPA's concerns.

ERP No. F-COE-E35084-NC, Randleman Lake and Dam Project, Construction, Piedmont Triad Regional Water Authority (PTRWA), Deep River, Guilford and Randolph Counties, NC.

Summary

EPA requested that the Record of Decision include requirements for water quality monitoring and fee transfer of the Cone's Folly site to an appropriate state or federal agency or land conservancy organization. EPA also noted a preference for wetland mitigation plans that use more natural stream restoration practices where practicable, and advised that created wetlands may not provide treatment areas for wastewater and stormwater.

Dated: February 6, 2001.
Joseph C. Montgomery,
Director, NEPA Compliance Division, Office of Federal Activities.

[FR Doc. 01-3406 Filed 2-8-01; 8:45 am]

BILLING CODE 6560-50-P